DEPARTMENT OF HOMELAND SECURITY

Federal Emergency Management Agency

[Docket ID FEMA-2026-0002]

Final Flood Hazard Determinations

AGENCY: Federal Emergency Management Agency, Department of Homeland Security.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having an effect in order to qualify or remain qualified for participation in the Federal Emergency Management Agency's (FEMA's) National Flood Insurance Program (NFIP).

DATES: The date of May 26, 2026 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: David N. Bascom, Acting Director, Engineering and Modeling Division, National Flood Insurance Program, Resilience, FEMA, 400 C Street SW, Washington, DC 20472, or (email) david.bascom@fema.dhs.gov; or visit the FEMA Mapping and Insurance eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Assistant Administrator, Federal Insurance Directorate, Resilience has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Elizabeth Asche,
Assistant Administrator, Federal Insurance Directorate, Resilience Federal Emergency Management Agency, Department of Homeland Security.

Community | Community map repository address
Alameda County, California and Incorporated Areas
Docket No.: FEMA-B-2485
City of Oakland | Planning and Building Department, 250 Frank H. Ogawa Plaza, Second Floor, Oakland, CA 94612.
Unincorporated Areas of Alameda County | Alameda County Public Works Agency, 399 Elmhurst Street, Hayward, CA 94544.
Des Moines County, Iowa and Incorporated Areas
Docket No.: FEMA-B-2425
Unincorporated Areas of Des Moines County | Southeast Iowa Regional Planning Commission, 211 North Gear Avenue, Suite 100, West Burlington, IA 52665.
Dixon County, Nebraska and Incorporated Areas
Docket No.: FEMA-B-2466
City of Ponca | City Hall, 123 West 3rd Street, Ponca, NE 68770.
City of Wakefield | City Clerk's Office, 405 Main Street, Wakefield, NE 68784.
Unincorporated Areas of Dixon County | Dixon County Courthouse, 302 West 3rd Street, Ponca, NE 68770.
Village of Allen | Village Office and Library, 100 East 2nd Street, Allen, NE 68710.
Village of Concord | Village Office, 203 Lincoln Street, Concord, NE 68728.
Village of Dixon | Village Office, 200 South Main Street, Dixon, NE 68732.
Village of Martinsburg | Martinsburg Volunteer Fire Department, 5018 Main Street, Ponca, NE 68770.
Village of Maskell | Park Shelter House, 118 Main Street, Maskell, NE 68751.
Village of Newcastle | Village Office, 510 Annie Street, Newcastle, NE 68757.
Village of Waterbury | Village Office, 304 Garrett Street, Waterbury, NE 68785.
Winnebago Tribe of Nebraska | Winnebago Tribe of Nebraska Administration Building, 205 Bluff Street, Winnebago, NE 68071.
Shelby County, Texas and Incorporated Areas
Docket No.: FEMA-B-2487
City of Center | City Hall, 617 Tenaha Street, Center, TX 76935.
City of Huxley | Huxley City Hall, 11798 FM 2694, Shelbyville, TX 75973.
City of Joaquin | City Office, 124 North Preston Street, Joaquin, TX 75954.
City of Tenaha | City Hall, 238 North George Bowers Drive, Tenaha, TX 75974.
City of Timpson | City Hall, 456 Jacob Street, Timpson, TX 75975.
Unincorporated Areas of Shelby County | Shelby County Courthouse, 200 San Augustine Street, Center, TX 75935.

[FR Doc. 2026-01748 Filed 1-28-26; 8:45 am]

BILLING CODE 9110-12-P